NUCLEAR REGULATORY COMMISSION

Final Regulatory Guide: Issuance, Availability

The U.S. Nuclear Regulatory Commission (NRC) has issued a revision to an existing guide in the agency's Regulatory Guide Series. This series has been developed to describe and make available to the public such information as methods that are acceptable to the NRC staff for implementing specific parts of the NRC's regulations, techniques that the staff uses in evaluating specific problems or postulated accidents, and data that the staff needs in its review of applications for permits and licenses.

Revision 14 of Regulatory Guide 1.147, “Inservice Inspection Code Case Acceptability, ASME Section XI, Division 1,” lists the NRC-approved Code Cases from Section XI, “Rules for Inservice Inspection of Nuclear Power Plant Components,” of the Boiler and Pressure Vessel (BPV) Code promulgated by the American Society of Mechanical Engineers (ASME). In so doing, this guide identifies the Code Cases that nuclear power plant applicants and licensees can use to comply with the NRC's requirements in Title 10, Section 50.55a(g), of the Code of Federal Regulations [10 CFR 50.55a(g)], “Inservice Inspection Requirements.” Specifically, 10 CFR 50.55a(g) requires, in part, that Class 1, 2, 3, MC, and CC components and their supports must meet the requirements of ASME Section XI (or equivalent quality standards). The ASME publishes a new edition of the BPV Code (which includes Section XI) every 3 years, new addenda every year, and Code Cases every quarter.

Revision 14 of Regulatory Guide 1.147 identifies the Code Cases that the NRC has determined to be acceptable alternatives to applicable provisions of Section XI. For this revision, the NRC staff reviewed Section XI Code Cases listed in Supplement 12 to the 1998 Edition of the ASME BPV Code through Supplement 6 to the 2001 Edition.

The newly approved Code Cases and revisions to existing Code Cases will be incorporated by reference into 10 CFR 50.55a(b), which identifies the latest editions and addenda of Section XI that the NRC has approved for use. Code Cases approved by the NRC may be used voluntarily by licensees without a request for NRC authorization, provided that they are used with any identified limitations or modifications. Section XI Code Cases not yet endorsed by the NRC may be implemented through 10 CFR 50.55a(a)(3), which permits the use of alternatives to the Code requirements referenced in 10 CFR 50.55a, provided that the proposed alternatives result in an acceptable level of quality and safety, and their use is authorized by the Director of the NRC's Office of Nuclear Reactor Regulation.

On August 3, 2004, the NRC staff published a draft of this guide as Draft Regulatory Guide DG-1125. Following the closure of the public comment period on September 2, 2004, the staff considered all stakeholder comments in the course of preparing Revision 14 of Regulatory Guide 1.147.

The NRC staff encourages and welcomes comments and suggestions in connection with improvements to published regulatory guides, as well as items for inclusion in regulatory guides that are currently being developed. You may submit comments by any of the following methods.

Mail comments to: Rules and Directives Branch, Office of Administration, U.S. Nuclear Regulatory Commission, Washington, DC 20555-0001.

Hand-deliver comments to: Rules and Directives Branch, Office of Administration, U.S. Nuclear Regulatory Commission, 11555 Rockville Pike, Rockville, Maryland 20852, between 7:30 a.m. and 4:15 p.m. on Federal workdays.

Fax comments to: Rules and Directives Branch, Office of Administration, U.S. Nuclear Regulatory Commission at (301) 415-5144.

Requests for technical information about Revision 14 of Regulatory Guide 1.147 may be directed to Wallace E. Norris, at (301) 415-6796 or WEN@nrc.gov.

Regulatory guides are available for inspection or downloading through the NRC's public Web site in the Regulatory Guides document collection of the NRC's Electronic Reading Room at http://www.nrc.gov/reading-rm/doc-collections/. Electronic copies of Revision 14 of Regulatory Guide 1.147 are also available in the NRC's Agencywide Documents Access and Management System (ADAMS) at http://www.nrc.gov/reading-rm/adams.html, under Accession #ML052510117. Note, however, that the NRC has temporarily suspended public access to ADAMS so that the agency can complete security reviews of publicly available documents and remove potentially sensitive information. Please check the NRC's Web site for updates concerning the resumption of public access to ADAMS.

In addition, regulatory guides are available for inspection at the NRC's Public Document Room (PDR), which is located at 11555 Rockville Pike, Rockville, Maryland; the PDR's mailing address is USNRC PDR, Washington, DC 20555-0001. The PDR can also be reached by telephone at (301) 415-4737 or (800) 397-4205, by fax at (301) 415-3548, and by e-mail to PDR@nrc.gov. Requests for single copies of draft or final guides (which may be reproduced) or for placement on an automatic distribution list for single copies of future draft guides in specific divisions should be made in writing to the U.S. Nuclear Regulatory Commission, Washington, DC 20555-0001, Attention: Reproduction and Distribution Services Section; by e-mail to DISTRIBUTION@nrc.gov; or by fax to (301) 415-2289. Telephone requests cannot be accommodated.

Regulatory guides are not copyrighted, and Commission approval is not required to reproduce them.

(5 U.S.C. 552(a))

Dated at Rockville, Maryland, this 15th day of August, 2005.
For the U.S. Nuclear Regulatory Commission,
Carl J. Paperiello,
Director, Office of Nuclear Regulatory Research.

[FR Doc. 05-19446 Filed 9-28-05; 8:45 am]

BILLING CODE 7590-01-P